DEPARTMENT OF EDUCATION

[Docket No.: ED-2017-ICCD-0006]

Agency Information Collection Activities; Submission to the Office of Management and Budget for Review and Approval; Comment Request; 2008/18 Baccalaureate and Beyond (B&B: 08/18) Field Test

AGENCY: National Center for Education Statistics (NCES), Department of Education (ED).

ACTION: Notice.

SUMMARY: In accordance with the Paperwork Reduction Act of 1995, ED is proposing a reinstatement of a previously approved information collection.

DATES: Interested persons are invited to submit comments on or before May 5, 2017.

ADDRESSES: To access and review all the documents related to the information collection listed in this notice, please use http://www.regulations.gov by searching the Docket ID number ED-2017-ICCD-0006. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 224-84, Washington, DC 20202-4537.

FOR FURTHER INFORMATION CONTACT: For specific questions related to collection activities, please contact NCES Information Collections at NCES.Information.Collections@ed.gov.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: 2008/18 Baccalaureate and Beyond (B&B: 08/18) Field Test.

OMB Control Number: 1850-0729.

Type of Review: A reinstatement of a previously approved information collection.

Respondents/Affected Public: Individuals or Households.

Total Estimated Number of Annual Responses: 4,242.

Total Estimated Number of Annual Burden Hours: 905.

Abstract: The Baccalaureate and Beyond Longitudinal Study (B&B), conducted by the National Center for Education Statistics (NCES), part of the U.S. Department of Education, examines students' education and work experiences after they complete a bachelor's degree, with a special emphasis on the experiences of school teachers. The B&B-eligible cohort is initially identified in the National Postsecondary Study Aid Study (NPSAS). The first cohort (B&B:93) was identified in NPSAS:93, and consisted of students who received their bachelor's degree in the 1992-93 academic year. The second cohort (B&B:2000) was selected from the NPSAS:2000, and the third cohort (B&B:08) was selected from NPSAS:2008, which became the base year for follow-up interviews in 2009 and 2012. The B&B:08/18 data collection will be the third and final follow-up for the third cohort of the B&B series (OMB# 1850-0729). The fourth cohort of baccalaureate recipients (B&B:16/17), identified in NPSAS:2016, is entering full-scale data collection in 2017 (OMB# 1850-0926). This request is to conduct the B&B:08/18 field test in 2017, which will collect data from B&B:08 sample members after they were first surveyed 10 years earlier. The B&B:08/18 field test includes several data collection experiments and will inform the materials and procedures for the full-scale B&B:08/18 to be conducted in 2018.

Dated: March 30, 2017.
Kate Mullan,
Acting Director, Information Collection Clearance Division, Office of the Chief Privacy Officer, Office of Management.

[FR Doc. 2017-06664 Filed 4-4-17; 8:45 am]

BILLING CODE 4000-01-P